DEPARTMENT OF JUSTICE

National Institute of Corrections

Advisory Board Meeting

Time and Date: 8 a.m. to 4:30 p.m. on Monday, October 29, 2007. 8 a.m. to 4:30 p.m. on Tuesday, October 30, 2007.

Place: American Correctional Association, 206 North Washington Street, Suite 200, Alexandria, Virginia 22314, 1 (800) 222-5646.

Status: Open.

Matters to be Considered: PREA reports; Moss Group; American University and Bureau of Justice Statistics; Report by Mike Thompson of CGS Justice Center; Future Advisory Board Hearings; Concept For National Database Of Providers Of Reintegration Services For Ex-Offenders; Agency Reports; Quarterly Report by Office of Justice Programs; U.S. Parole Commission; American Corrections Association; Federal Judicial Center.

For Further Information Contact: Thomas Beauclair, Deputy Director, 202-307-3106, ext. 44254.

Morris L. Thigpen,
Director.

[FR Doc. 07-4714 Filed 9-24-07; 8:45 am]

BILLING CODE 4410-36-M